DEPARTMENT OF ENERGY

Federal Energy Regulatory Commission

[Docket No. ER99-230-002, et al.]

Alliant Energy Corporate Services, Inc., et al.; Electric Rate and Corporate Regulation Filings

December 21, 2001.

Take notice that the following filings have been made with the Commission. Any comments should be submitted in accordance with Standard Paragraph E at the end of this notice.

1. Alliant Energy Corporate Services, Inc.

[Docket No. ER99-230-002]

Take notice that on December 18, 2001, Alliant Energy Corporate Services, Inc., submitted to the Federal Energy Regulatory Commission (Commission) an updated market power analysis.

Comment date: January 8, 2002.

2. Progress Genco Ventures, LLC

[Docket No. ER01-2929-000 and ER01-2929-001]

Take notice that on November 30, 2002, Progress Genco Ventures, LLC tendered for filing a notice of withdrawal of its application for authorization to sell capacity, energy and ancillary services at market-based rates, filed on August 24, 2001, as amended on November 2, 2001, in the above-referenced docket.

Comment date: January 11, 2002.

3. Cinergy Services, Inc.

[Docket No. ER02-177-001]

Take notice that on December 14, 2001, Cinergy Services, Inc. (Services), The Cincinnati Gas & Electric Company (CG&E), PSI Energy, Inc. (PSI), and Cinergy Power Investments, Inc. (CPI) (collectively Applicants) filed with the Federal Energy Regulatory Commission (Commission) an Application for Various Approvals Under Section 205 of the FPA. This filing is a supplement to a larger package of interrelated filings and associated settlements in which Applicants requested Commission action by December 31, 2001.

Comment date: January 4, 2002.

4. Virginia Electric and Power Company

[Docket No. ER02-559-000]

Take notice that on December 17, 2001, Virginia Electric and Power Company (Dominion Virginia Power or the Company) tendered for filing with the Federal Energy Regulatory Commission (Commission) the following Service Agreements with Sempra Energy Trading Corporation (Transmission Customer):

1. Fifth Amended Service Agreement for Firm Point-to-Point Transmission Service designated Seventh Revised Service Agreement No. 253 under the Company's FERC Electric Tariff, Second Revised Volume No. 5;

2. Fifth Amended Service Agreement for Non-Firm Point-to-Point Transmission Service designated Seventh Revised Service Agreement No. 49 under the Company's FERC Electric Tariff, Second Revised Volume No. 5.

The foregoing Service Agreements are tendered for filing under the Company's Open Access Transmission Tariff to Eligible Purchasers effective June 7, 2000. Under the tendered Service Agreements, Dominion Virginia Power will provide point-to-point service to the Transmission Customer under the rates, terms and conditions of the Open Access Transmission Tariff. The Company requests an effective date of November 15, 2001, the date the customer first requested service.

Copies of the filing were served upon Sempra Energy Trading Corporation, the Virginia State Corporation Commission, and the North Carolina Utilities Commission.

Comment date: January 7, 2002.

5. Exelon Generation Company, LLC

[Docket No. ER02-560-000]

Take notice that on December 17, 2001, Exelon Generation Company, LLC (Exelon Generation), submitted for filing a power sales service agreement between Exelon Generation and Bryan Texas Utilities, under Exelon Generation's wholesale power sales tariff, FERC Electric Tariff Original Volume No. 2.

Comment date: January 8, 2002.

6. Pacific Gas and Electric Company

[Docket No. ER02-561-000]

Take notice that on December 18, 2001, Pacific Gas and Electric Company (PG&E) tendered for filing a Generator Special Facilities Agreement (GSFA) and a Generator Interconnection Agreement (GIA) between PG&E and GWF Energy LLC (GWF) (collectively Parties).

The GSFA permits PG&E to recover the ongoing costs associated with owning, operating and maintaining the Special Facilities. As detailed in the Special Facilities Agreement, PG&E proposes to charge GWF a monthly Cost of Ownership Charge equal to the rates for transmission-level, customer-financed facilities in PG&E's currently effective Electric Rule 2, as filed with the California Public Utilities Commission (CPUC). PG&E's currently effective rate of 0.31% for transmission-level, customer-financed Special Facilities is contained in the CPUC's Advice Letter 1960-G/1587-E, effective August 5, 1996, a copy of which is included as Attachment 3 of this filing. PG&E has requested certain waivers.

Copies of this filing have been served upon GWF, the California Independent System Operator Corporation and the CPUC.

Comment date: January 8, 2002.

7. Reliant Energy Osceola, LLC

[Docket No. ER02-473-000 and ER02-473-001]

Take notice that on December 4, 2001, Reliant Energy Osceola, LLC (Reliant Osceola) in Docket No. ER02-473-000 as amended on December 12, 2001 in Docket No. ER02-473-001 tendered for filing a Power Purchase Agreement between reliant Osceola and Seminole Electric Cooperative, Inc. (Seminole) as a customer under reliant Osceola's market-based tariff.

Reliant Osceola requests and effective date of December 1, 2001.

Comment date: January 2, 2002.

Standard Paragraph

E. Any person desiring to be heard or to protest such filing should file a motion to intervene or protest with the Federal Energy Regulatory Commission, 888 First Street, N.E., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-32179 Filed 12-31-01; 8:45 am]

BILLING CODE 6717-01-P